DEPARTMENT OF DEFENSE

Office of the Secretary

Federal Advisory Committee; Chief of Naval Operations Executive Panel; Charter Renewal

AGENCY: Department of Defense (DoD).

ACTION: Renewal of Federal advisory committee.

SUMMARY: Under the provisions of the Federal Advisory Committee Act of 1972, (5 U.S.C. Appendix), the Government in the Sunshine Act of 1976 (5 U.S.C. 552b), and 41 CFR 102-3.50, the Department of Defense gives notice that it is renewing the charter for the Chief of Naval Operations Executive Panel (hereafter referred to as the Panel).

FOR FURTHER INFORMATION CONTACT: Jim Freeman, Deputy Advisory Committee Management Officer for the Department of Defense, 703-601-6128.

SUPPLEMENTARY INFORMATION: The Panel is a discretionary Federal advisory committee that shall provide independent advice and recommendations to the Secretary of Defense, through the Secretary of the Navy and the Chief of Naval Operations on a broad array of issues relating to the following:

a. The role of naval power in the international strategic environment, including issues of technology, manpower, strategy and policy;

b. Current and projected Navy policies and procedures to enhance the Navy's effectiveness and efficiency in execution of national and defense policy; and

c. Alternative policies and postures for fulfilling the Navy's mission in the face of evolving political, economic, technological, and military circumstances.

The Panel is not established to advise on individual procurements, and no matter shall be assigned to the Panel for its consideration that would require any Panel member to participate personally and substantially in the conduct of any specific procurement or place him or her in the position of acting as a contracting or procurement official.

The Chief of Naval Operations may act upon the Panel's advice and recommendations.

The Panel shall be comprised of no more than 40 members appointed by the Secretary of Defense who are eminent authorities in the fields of science, engineering, business, and political-military.

Panel Members appointed by the Secretary of Defense, who are not full-time or permanent part-time Federal officers or employees, shall be appointed under the authority of 5 U.S.C. 3109, and serve as special government employees. All Panel member appointments shall be renewed by the Secretary of Defense on an annual basis. In addition, all Panel members, with the exception of travel and per diem for official travel, shall serve without compensation.

The Chief of Naval Operations shall select the Panel's chairperson from the total membership.

With DoD approval, the Panel is authorized to establish subcommittees, as necessary and consistent with its mission. These subcommittees or working groups shall operate under the provisions of the Federal Advisory Committee Act of 1972, the Government in the Sunshine Act of 1976 (5 U.S.C. 552b), and other appropriate Federal statutes and regulations.

Such subcommittees or working groups shall not work independently of the chartered Panel, and shall report all their recommendations and advice to the Panel for full deliberation and discussion. Subcommittees or working groups have no authority to make decisions on behalf of the chartered Panel; nor can they report directly to the Department of Defense or any Federal officers or employees who are not Panel members.

Subcommittee members, who are not Panel members, shall be appointed in the same manner as the Panel members.

The Panel shall meet at the call of the Panel's Designated Federal Officer, in consultation with the Chairperson and the Chief of Naval Operations. The estimated number of Panel meetings is eight per year.

The Designated Federal Officer, pursuant to DoD policy, shall be a full-time or permanent part-time DoD employee, and shall be appointed in accordance with established DoD policies and procedures. In addition, the Designated Federal Officer is required to be in attendance at all meetings; however, in the absence of the Designated Federal Officer, the Alternate Designated Federal Officer shall attend the meeting.

Pursuant to 41 CFR 102-3.105(j) and 102-3.140, the public or interested organizations may submit written statements to the Chief of Naval Operations Executive Panel's membership about the Panel's mission and functions. Written statements may be submitted at any time or in response to the stated agenda of planned meeting of Chief of Naval Operations Executive Panel.

All written statements shall be submitted to the Designated Federal Officer for the Chief of Naval Operations Executive Panel, and this individual will ensure that the written statements are provided to the membership for their consideration. Contact information for the Chief of Naval Operations Executive Panel Designated Federal Officer can be obtained from the GSA's FACA Database— https://www.fido.gov/facadatabase/public.asp.

The Designated Federal Officer, pursuant to 41 CFR 102-3.150, will announce planned meetings of the Chief of Naval Operations Executive Panel. The Designated Federal Officer, at that time, may provide additional guidance on the submission of written statements that are in response to the stated agenda for the planned meeting in question.

Dated: April 26, 2010.
Mitchell S. Bryman,
Alternate OSD Federal Register Liaison Officer, Department of Defense.

[FR Doc. 2010-10002 Filed 4-28-10; 8:45 am]

BILLING CODE 5001-06-P